POSTAL SERVICE

Market Test of Experimental Product: “Extended Mail Forwarding”

AGENCY: Postal Service™.

ACTION: Notice of market test.

SUMMARY: The Postal Service gives notice of a market test of an experimental product in accordance with statutory requirements.

DATES: June 22, 2020.

FOR FURTHER INFORMATION CONTACT: Kara C. Marcello, 202-268-4031.

SUPPLEMENTARY INFORMATION: The United States Postal Service hereby gives notice pursuant to 39 U.S.C. 3641(c)(1) that it plans to begin a market test of its “Extended Mail Forwarding” experimental product on August 1, 2020. On June 8, 2020, the Postal Service filed with the Postal Regulatory Commission a notice setting out the basis for the Postal Service's determination that the market test is covered by 39 U.S.C. 3641, and describing the nature and scope of the market test. Documents are available at www.prc.gov, Docket No. MT2020-2.

Joshua J. Hofer,
Attorney, Federal Compliance.

[FR Doc. 2020-13356 Filed 6-19-20; 8:45 am]

BILLING CODE 7710-12-P